DEPARTMENT OF LABOR

Occupational Safety and Health Administration

[Docket No. OSHA-2016-0022]

Bay Area Compliance Laboratories Corporation: Grant of Renewal of Recognition

AGENCY: Occupational Safety and Health Administration (OSHA), Labor.

ACTION: Notice.

SUMMARY: In this notice, OSHA announces the final decision to grant renewal of recognition to Bay Area Compliance Laboratories Corporation (BACL) as a Nationally Recognized Testing Laboratory (NRTL).

DATES: The renewal of recognition becomes effective on May 20, 2022.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Background

OSHA hereby gives notice that it is granting the renewal of recognition of Bay Area Compliance Laboratories (BACL) as a NRTL under 29 CFR 1910.7.

OSHA recognition of a NRTL signifies that the organization meets the requirements in Section 1910.7 of Title 29, Code of Federal Regulations (29 CFR 1910.7). Recognition is an acknowledgment that the organization can perform independent safety testing and certification of the specific products covered within the scope of recognition and is not a delegation or grant of government authority. As a result of recognition, employers may use products properly approved by the NRTL to meet OSHA standards that require testing and certification. OSHA maintains an informational web page for each NRTL that details the scope of recognition available at http://www.osha.gov/dts/otpca/nrtl/index.html.

OSHA processes applications by a NRTL for renewal of recognition following requirements in Appendix A to 29 CFR 1910.7. OSHA conducts renewals in accordance with the procedures in 29 CFR 1910.7, Appendix A, paragraph II.C. In accordance with these procedures, NRTLs submit a renewal request to OSHA, not less than nine months or no more than one year, before the expiration date of its current recognition. The submission includes a request for renewal and any additional information the NRTL wishes to submit to demonstrate its continued compliance with the terms of its recognition and 29 CFR 1910.7. If OSHA has not conducted an on-site assessment of the NRTL's headquarters and key sites within the past 18 to 24 months, it will schedule the necessary on-site assessments prior to the expiration date of the NRTL's recognition. Upon review of the submitted material and, as necessary, the successful completion of the on-site assessment, OSHA announces its preliminary decision to grant or deny renewal in the Federal Register and solicit comments from the public. OSHA then publishes a final Federal Register notice responding to any comments and renewing the NRTL's recognition for a period of five years, or denying the renewal of recognition.

BACL initially received OSHA recognition as a NRTL on April 6, 2017 (82 FR 16856) for a five-year period ending April 6, 2022. BACL submitted a timely request for renewal, dated July 6, 2021 (OSHA-2016-0022-0014), and has retained its recognition pending OSHA's final decision in this renewal process. The current address of the BACL facility recognized by OSHA and included as part of the renewal request is:

• Bay Area Compliance Laboratories Corporation, 1274 Anvilwood Avenue, Sunnyvale, California 94089.

OSHA evaluated BACL's application for renewal and made a preliminary determination that BACL can meet the requirements prescribed by 29 CFR 1910.7 for NRTL recognition.

OSHA published the preliminary notice announcing BACL's renewal application in the Federal Register on March 23, 2022 (87 FR 16500). The agency requested comments by April 7, 2022, but it received no comments in response to this notice. OSHA is now proceeding with this final notice to renew BACL's NRTL recognition.

To obtain or review copies of all public documents pertaining to the BACL renewal application, go to www.regulations.gov or contact the Docket Office. Docket No. OSHA-2016-0022 contains all materials in the record concerning BACL's NRTL recognition. Please note: Due to the COVID-19 pandemic, the Docket Office is closed to the public at this time but can be contacted at (202) 693-2350.

II. Final Decision and Order

OSHA hereby gives notice of the renewal of recognition of BACL as a NRTL. OSHA examined BACL's renewal application for renewal and all pertinent information related to BACL's request for renewal of NRTL recognition. Based on this review of the renewal request and other pertinent information, OSHA finds that BACL meets the requirements of 29 CFR 1910.7 for renewal of recognition as a NRTL, subject to the specific limitation and conditions. OSHA limits the renewal of BACL's recognition to include the terms and conditions of BACL's recognition found in 82 FR 16856. The NRTL scope of recognition for BACL is also available on the OSHA website at: https://www.osha.gov/dts/otpca/nrtl/bacl.html. This renewal extends BACL's recognition as a NRTL for a period of five years from May 20, 2022.

A. Conditions

In addition to those conditions already required by 29 CFR 1910.7, BACL must abide by the following conditions of recognition:

1. BACL must inform OSHA as soon as possible, in writing, of any change of ownership, facilities, or key personnel, and of any major change in their operations as a NRTL, and provide details of the change(s);

2. BACL must meet all the terms of their recognition and comply with all OSHA policies pertaining to this recognition; and

BACL must continue to meet the requirements for recognition, including all previously published conditions on BACL's scope of recognition, in all areas for which it has recognition.

Pursuant to the authority in 29 CFR 1910.7, OSHA hereby renews the recognition of BACL as a NRTL.

Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393, September 18, 2020), and 29 CFR 1910.7.

Signed at Washington, DC, on May 12, 2022.
James S. Frederick,
Deputy Assistant Secretary of Labor for Occupational Safety and Health.

[FR Doc. 2022-10887 Filed 5-19-22; 8:45 am]

BILLING CODE 4510-26-P